ENVIRONMENTAL PROTECTION AGENCY

40 CFR Part 52

[EPA-R07-OAR-2010-0415; FRL-9210-2]

Approval and Promulgation of Implementation Plans; State of Missouri

AGENCY: Environmental Protection Agency (EPA).

ACTION: Proposed rule.

SUMMARY: EPA is proposing to approve a revision to a State Implementation Plan (SIP) submitted by the state of Missouri. The purpose of this revision is to update the Springfield City Code and is part of ongoing SIP maintenance to assure that outdated local codes and ordinances do not remain in the SIP. The revision reflects updates to the Missouri statewide rules, and will ensure consistency between the applicable local agency rules and the Federally approved rules.

DATES: Comments on this proposed action must be received in writing by November 22, 2010.

ADDRESSES: Submit your comments, identified by Docket ID No. EPA-R07-OAR-2010-0415, by mail to Lachala Kemp, Environmental Protection Agency, Air Planning and Development Branch, 901 North 5th Street, Kansas City, Kansas 66101. Comments may also be submitted electronically or through hand delivery/courier by following the detailed instructions in the ADDRESSES section of the direct final rule located in the rules section of this Federal Register.

FOR FURTHER INFORMATION CONTACT: Lachala Kemp at (913) 551-7214, or by e-mail at kemp.lachala@epa.gov.

SUPPLEMENTARY INFORMATION: In the final rules section of the Federal Register, EPA is approving the state's SIP revision as a direct final rule without prior proposal because the Agency views this is a noncontroversial revision amendment and anticipates no relevant adverse comments to this action. A detailed rationale for the approval is set forth in the direct final rule. If no relevant adverse comments are received in response to this action, no further activity is contemplated in relation to this action. If EPA receives relevant adverse comments, the direct final rule will be withdrawn and all public comments received will be addressed in a subsequent final rule based on this proposed action. EPA will not institute a second comment period on this action. Any parties interested in commenting on this action should do so at this time. Please note that if EPA receives adverse comments on part of this rule and if that part can be severed from the remainder of the rule, EPA may adopt as final those parts of the rule that are not the subject of an adverse comment. For additional information, see the direct final rule which is located in the rules section of this Federal Register.

Dated: September 22, 2010.
Karl Brooks,
Regional Administrator, Region 7.

[FR Doc. 2010-24920 Filed 10-20-10; 8:45 am]

BILLING CODE 6560-50-P